DEPARTMENT OF JUSTICE

Antitrust Division

Notice Pursuant to the National Cooperative Research and Production Act of 1993—Cooperative Research Group on Energy Storage System Evaluation and Safety

Notice is hereby given that, on October 6, 2011, pursuant to Section 6(a) of the National Cooperative Research and Production Act of 1993, 15 U.S.C. 4301 et seq. (“the Act”), Southwest Research Institute—Cooperative Research Group on Energy Storage System Evaluation and Safety (“EssEs”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: Allison Transmission, Inc., Indianapolis, IN; BAE Systems, Johnson City, NY; Cummins, Inc., Columbus, IN; Deere & Company, Moline, IL; Tata Motors Limited, Mumbai, India; Caterpillar Inc., Peoria, IL; China Automotive Technology and Research Center (CATARC), Tianjin, People's Republic of China; and Shanghai E-Propulsion Auto Technology Co., Ltd., Shanghai, People's Republic of China. The general area of EssEs's planned activity is to develop detailed cell level data on current or near market technology across a meaningfully diverse number of manufacturers to allow a relative comparison between available technologies. The program will provide performance, life, abuse and consistency of manufacturing test data for member-selected systems in a private, independent third party laboratory format (nongovernmental). This will provide members with data required to assess the pertinent performance characteristics of various battery topologies, chemistries and manufacturers to assist in the selection of cells for a vehicular energy storage system. Additionally, the level of data and the detail in which it is provided will be sufficient to aid in the development of models, pack integration work and thermal management strategy development.

Patricia A. Brink,
Director of Civil Enforcement, Antitrust Division.

[FR Doc. 2011-29078 Filed 11-14-11; 8:45 am]

BILLING CODE 4410-11-M